DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of May 1 through May 31, 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than July 6, 2021.

Initial Investigations

The following are initial investigations commenced following the receipt of a properly filed petition.

TA-W No. | Workers' firm | Location | Investigation start date
96880 | Ascension Technologies | Saint Louis, MO | 5/3/2021
96881 | Arrow International | Asheboro, NC | 5/4/2021
96882 | Mosey Manufacturing Co. Inc | Richmond, IN | 5/4/2021
96883 | RELX dba Reed Exhibitions | Norwalk, CT | 5/4/2021
96884 | Vestas Blades America, Inc | Windsor, CO | 5/5/2021
96885 | Jama Software, Inc | Portland, OR | 5/6/2021
96886 | Digimarc Corporation | Beaverton, OR | 5/6/2021
96887 | Landis+Gyr Technology, Inc | Saint Louis, MO | 5/6/2021
96888 | PCC Aerostructures | Wilkes Barre, PA | 5/6/2021
96889 | Global Safety Textiles LLC | South Hill, VA | 5/6/2021
96890 | Teleflex | Maple Grove, MN | 5/7/2021
96891 | Travelers Insurance Company | Hartford, CT | 5/7/2021
96892 | Equinor US Operations LLC FKA Statoil Gulf Services LLC | Houston, TX | 5/7/2021
96893 | ABB, Inc | Kings Mountain, NC | 5/7/2021
96894 | Vestas-American Wind Technology, Inc | Portland, OR | 5/10/2021
96895 | Viper Technologies d/b/a Avalign Thortex | Portland, OR | 5/10/2021
96896 | TDK Ferrites Corporation | Shawnee, OK | 5/13/2021
96897 | Liberty Mutual Group, Inc | Columbia, MD | 5/13/2021
96898 | Emerson Automation Solutions | Walden, NY | 5/13/2021
96899 | Masonite Corporation | Springfield, MO | 5/13/2021
96900 | National Instruments | Austin, TX | 5/13/2021
96901 | Bedford Industries | Worthington, MN | 5/13/2021
96902 | Terex USA, LLC | Oklahoma City, OK | 5/14/2021
96903 | Hanesbrands, Inc | Clarksville, AR | 5/14/2021
96904 | Elster AMCO Water LLC | Ocala, FL | 5/14/2021
96905 | Vervent Inc | Luverne, MN | 5/14/2021
96906 | The Mosaic Company | Plymouth, MN | 5/17/2021
96907 | Glimmer Technology, Inc | Eugene, OR | 5/18/2021
96908 | Embraer Executive Jets | Windsor Locks, CT | 5/19/2021
96909 | CommScope | Greensboro, NC | 5/20/2021
96910 | Globe Specialty Metals | Beverly, OH | 5/20/2021
96911 | Sanofi Aventis | Malvern, PA | 5/20/2021
96912 | Certech Inc. DBA Morgan Advanced Materials | Wood Ridge, NJ | 5/20/2021
96913 | PPG Industries, Inc | Pittsburgh, PA | 5/24/2021
96914 | Surgery Partners | Brentwood, TN | 5/24/2021
96915 | Nike Inc | Beaverton, OR | 5/25/2021
96916 | DAK Americas LLC | Moncks Corner, SC | 5/27/2021

Reconsideration Investigations

The following are reconsideration investigations following the receipt of a properly filed application for reconsideration.

TA-W No. | Workers' firm | Location | Investigation start date
96717 | Comprehensive Decommissioning International | Plymouth, MA | 5/4/2021

A record of these investigations and petitions filed are available, subject to redaction, on the Department's website https://www.dol.gov/agencies/eta/tradeact under the searchable listing or by calling the Office of Trade Adjustment Assistance toll free at 888-365-6822.

Signed at Washington, DC, this 11th day of June 2021.
Hope D. Kinglock,
Certifying Officer, Office of Trade Adjustment Assistance.

[FR Doc. 2021-13265 Filed 6-23-21; 8:45 am]

BILLING CODE 4510-FN-P